DEPARTMENT OF ENERGY

Federal Energy Regulatory Commission

[Docket Nos. RP00-326-004, RP00-605-004, and RP02-39-006]

Columbia Gulf Transmission Company; Notice of Compliance Filing

July 24, 2003.

Take notice that on July 18, 2003, Columbia Gulf Transmission Company (Columbia Gulf) tendered for filing as part of its FERC Gas Tariff, Second Revised Volume No. 1, the tariff sheets listed on Appendix A to the filing, bearing a proposed effective date of July 1, 2003, and tariff sheets listed on Appendix B to the filing, bearing a proposed effective date of April 1, 2004.

Columbia Gulf states it is making this filing in compliance with the Commission's July 3, 2003 Order (July 3 Order) in the above-referenced dockets. Columbia Gulf explains that in the July 3 Order, the Commission held that Columbia Gulf's October 28, 2002 filing to comply with the Commission's September 26, 2002 order, was generally in compliance. The September 26 Order addressed Columbia Gulf's requirement to comply with Order Nos. 637, 587-G, and 587-L. Columbia Gulf further explains that the July 3 Order also required that Columbia Gulf make certain compliance changes by filing actual tariff sheets within 15 days of the date of issuance of the July 3 Order. The Commission directed Columbia Gulf that those tariff sheets should have a July 1, 2003 effective date. In addition, Columbia Gulf explains, the Commission identified other compliance changes that were to have an effective date of April 1, 2004. Columbia Gulf states that these revised tariff sheets reflect the changes required by the Commission in the July 3 Order.

Columbia Gulf states that copies of its filing have been mailed to all firm customers, interruptible customers and affected state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 30, 2003.

Magalie R. Salas,
Secretary.

[FR Doc. 03-19393 Filed 7-30-03; 8:45 am]

BILLING CODE 6717-01-P